DEPARTMENT OF ENERGY

Atlantic Offshore Wind Transmission Convening Workshop on Stakeholder Partnership—Sharing the Benefits and Opportunities for Atlantic Offshore Wind Transmission

AGENCY: U.S. Department of Energy.

ACTION: Notice of virtual Stakeholder Convening Workshop.

SUMMARY: The U.S. Department of Energy (DOE) and U.S. Department of the Interior (DOI)-Bureau of Ocean Energy Management (BOEM) will hold a virtual Convening Workshop to discuss and receive feedback regarding the benefits, opportunities, and strategies for transmission development for offshore wind (OSW) projects along the Atlantic Coast of the mainland United States (from Maine to South Carolina). This Stakeholder Partnership workshop will focus on strategies to support sustainable and just development of OSW transmission that avoids and minimizes impacts to ocean co-users and marine environments; creates benefits for coastal and underserved communities; and minimizes or mitigates unavoidable negative impacts. This event is part of a series of convening workshops to seek individual advice and obtain information, in order for DOE and BOEM to develop a set of recommendations and an associated action plan for addressing near-, medium-, and long-term OSW transmission challenges. In addition, DOE encourages written comments on these subjects.

DATES: Tuesday, June 28, 2022 (8:00 a.m. to 12:00 p.m., Eastern Daylight Time).

ADDRESSES: Registration for this virtual workshop is currently available at: Atlantic Offshore Wind Stakeholder Workshop. Registrants will receive an email with call-in and webinar login information. Any comments submitted must identify the Federal Register Notice for the “Stakeholder Partnership—Sharing the Benefits and Opportunities for Atlantic Offshore Wind Transmission.” Comments may be submitted via email to OSWTransmission@hq.doe.gov. Comments are requested no later than August 1, 2022.

FOR FURTHER INFORMATION CONTACT: Alissa Baker, U.S. Department of Energy, Office of Electricity, 1000 Independence Ave. SW, Washington, DC 20585; Telephone: (240) 702-4890; Email: OSWTransmission@hq.doe.gov.

SUPPLEMENTARY INFORMATION: DOE and BOEM will hold stakeholder workshops to identify technical planning and development; economics and policy; and siting and permitting recommendations to address near-, medium-, and long-term OSW transmission challenges. This workshop on “Sharing the Benefits and Opportunities for Atlantic Offshore Wind Transmission” will be held in a virtual format on Tuesday, June 28, 2022 from 8:00 a.m. to 12:00 p.m. EDT. The workshop will include presentations, panel discussions, and moderated discussion. The workshop will present educational background on OSW transmission and related ongoing federal activities. Participants will individually have the opportunity to ask questions, provide input, and share feedback. Persons interested in attending this virtual workshop must register online at: Atlantic Offshore Wind Stakeholder Workshop no later than Tuesday, June 21, 2022. Please check the website for additional information, including a detailed agenda, list of presentations, resource materials, and instructions to submit comments.

Signing Authority

This document of the Department of Energy was signed on June 9, 2022, by Gilbert C. Bindewald III, Acting Principal Deputy Assistant Secretary, Office of Electricity pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. The administrative process in no way alters the legal effect of this document upon publication in the Federal Register.

Signed in Washington, DC, on June 10, 2022.
Treena V. Garrett,
Federal Register Liaison Officer, U.S. Department of Energy.

[FR Doc. 2022-12871 Filed 6-14-22; 8:45 am]

BILLING CODE 6450-01-P